NATIONAL FOUNDATION ON THE ARTS AND THE HUMANITIES

National Endowment for the Arts

Combined Arts Advisory Panel

Pursuant to section 10(a)(2) of the Federal Advisory Committee Act (Public Law 92-463), as amended, notice is hereby given that six meetings of the Combined Arts Advisory Panel to the National Council on the Arts will be held at the Nancy Hanks Center, 1100 Pennsylvania Avenue, NW., Washington, DC, 20506 as follows:

Folk and Traditional Arts: June 2, 2003, Room 716 (Creativity and Services to Arts Organizations and Artists categories). This meeting will be closed.

Media Arts: June 10-13, 2003, Room 716 (Creativity and Services to Arts Organizations and Artists categories). A portion of this meeting, from 1 p.m. to 2 p.m. on June 13th, will be open to the public for policy discussion. The remaining portions of this meeting, from 9 a.m. to 6:30 p.m. on June 10th through 12th, and from 9 a.m. to 1 p.m. and 2 p.m. to 3:30 p.m. on June 13th, will be closed.

Design: June 17, 2003, Room 716 (Creativity and Services to Arts Organizations and Artists categories). A portion of this meeting, from 2 p.m. to 3 p.m., will be open to the public for policy discussion. The remaining portions of this meeting, from 9 a.m. to 2 p.m. and from 3 p.m. to 6 p.m., will be closed.

Opera: June 24-25, 2003, Room 714 (Creativity category). A portion of this meeting, from 3:15 p.m. to 4:15 p.m. on June 25th, will be open to the public for policy discussion. The remaining portions of this meeting, from 9 a.m. to 5:30 p.m. on June 24th, and from 9 a.m. to 3:15 p.m. and 4:15 p.m. to 4:45 p.m. on June 25th, will be closed.

Opera: June 25, 2003, Room 714 (Services to Arts Organizations and Artists category). This meeting will be closed.

Visual Arts: June 24-26, 2003, Room 716 (Creativity and Services to Arts Organizations and Artists categories). A portion of this meeting, from 1 p.m. to 2 p.m. on June 26th, will be open to the public for policy discussion. The remaining portions of this meeting, from 9 a.m. to 6 p.m. on June 24th and 25th, and from 9 a.m. to 1 p.m. and from 2 p.m. to 5 p.m., will be closed.

The closed meetings and portions of meetings are for the purpose of Panel review, discussion, evaluation, and recommendation on applications for financial assistance under the National Foundation on the Arts and the Humanities Act of 1965, as amended, including information given in confidence to the agency by grant applicants. In accordance with the determination of the Chairman of April 30, 2003, these sessions will be closed to the public pursuant to (c)(4)(6) and (9)(B) of section 552b of Title 5, United States Code.

Any person may observe meetings, or portions thereof, of advisory panels that are open to the public, and, if time allows, may be permitted to participate in the panel's discussions at the discretion of the panel chairman and with the approval of the full-time Federal employee in attendance.

If you need special accommodations due to a disability, please contact the Office of AccessAbility, National Endowment for the Arts, 1100 Pennsylvania Avenue, NW., Washington, DC 20506, 202/682-5532, TDY-TDD 202/682-5496, at least seven (7) days prior to the meeting.

Further information with reference to this meeting can be obtained from Ms. Kathy Plowitz-Worden, Office of Guidelines & Panel Operations, National Endowment for the Arts, Washington, DC, 20506, or call 202/682-5691.

Dated: May 14, 2003.
Kathy Plowitz-Worden,
Panel Coordinator, Panel Operations, National Endowment for the Arts.

[FR Doc. 03-12528 Filed 5-19-03; 8:45 am]

BILLING CODE 7537-01-P